GENERAL SERVICES ADMINISTRATION

[OMB Control No. 3090-0309; Docket No. 2019-0001; Sequence No. 6]

Information Collection; Simplifying Federal Award Reporting

AGENCY: Federal Acquisition Service; General Services Administration (GSA).

ACTION: Notice; request for comments.

SUMMARY: Under the provisions of the Paperwork Reduction Act, the Regulatory Secretariat Division will be submitting to the Office of Management and Budget (OMB) a request to review and approve a new information collection requirement regarding OMB Control No: 3090-0309; Simplifying Federal Award Reporting.

DATES: Submit comments on or before: September 3, 2019.

ADDRESSES: Submit comments regarding this burden estimate or any other aspect of this collection of information, including suggestions for reducing this burden to GSA by any of the following methods:

• Regulations.gov: http://www.regulations.gov. Submit comments via the Federal eRulemaking portal by searching for “Information Collection 3090-0309; Simplifying Federal Award Reporting”. Select the link “Submit a Comment” that corresponds with “Information Collection 3090-0309; Simplifying Federal Award Reporting”. Follow the instructions provided at the “Submit a Comment” screen. Please include your name, company name (if any), and “Information Collection 3090-0309; Simplifying Federal Award Reporting” on your attached document.

• Mail: General Services Administration, Regulatory Secretariat Division (MVCB), 1800 F Street NW, Washington, DC 20405. ATTN: Ms. Mandell/IC 3090-0309, Simplifying Federal Award Reporting.

Instructions: Please submit comments only and cite Information Collection 3090-0309; Simplifying Federal Award Reporting, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Mr. Kenneth Goldman, GSA, at telephone 202-779-2265.

SUPPLEMENTARY INFORMATION:

A. Purpose

The President's Management Agenda includes objectives for creating a twenty-first century government that delivers better results to the American people in a more efficient manner. Leveraging information technology capabilities to reduce reporting burden is key to achieving these goals. Section 5 of the Digital Accountability and Transparency Act (Pub. L. 113-101) requires a pilot program to develop recommendations for standardizing reporting, eliminating unnecessary duplication, and reducing compliance costs for recipients of Federal awards.

The pilot participants are required to provide requested reports as well as the cost to collect the data via the pilot. The proposed pilot program will provide an alternative submission method for existing Federal Acquisition Regulation (FAR) requirements, and assess the pilot results against the existing FAR-required method.

B. Annual Reporting Burden

Respondents: 720.

Responses per Respondent: 3 each week.

Total Annual Responses: 2,160.

Hours per Response: .5.

Total Burden Hours: 56,160.

C. Public Comments

Public comments are particularly invited on: Whether this collection of information will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW, Washington, DC 20405, telephone 202-501-4755. Please cite OMB Control No. 3090-0309, Simplifying Federal Award Reporting, in all correspondence.

Dated: June 25, 2019.
David A. Shive,
Chief Information Officer.

[FR Doc. 2019-14034 Filed 7-1-19; 8:45 am]

BILLING CODE 6820-61-P